DEPARTMENT OF HEALTH AND HUMAN SERVICES

Meetings of the Presidential Advisory Council on Combating Antibiotic-Resistant Bacteria

AGENCY: Office of the Assistant Secretary for Health, Office of the Secretary, Department of Health and Human Services.

ACTION: Notice.

SUMMARY: As stipulated by the Federal Advisory Committee Act, the Department of Health and Human Services (HHS) is hereby giving notice that an in-person meeting is scheduled to be held for the Presidential Advisory Council on Combating Antibiotic-Resistant Bacteria (PACCARB). The meeting will be open to the public as well as streamed live on hhs.gov/live. A pre-registered public comment and innovation spotlight session will be held during the meeting. Pre-registration is required for members of the public who wish to present their comments or innovations live during the meeting. Individuals who wish to send in their written public comment should send an email to CARB@hhs.gov. Registration information is available on the website http://www.hhs.gov/paccarb and must be completed by May 16, 2024, to attend the May 21-22, 2024, public meeting or by May 14, 2024, to provide live comments at the meeting. Additional information about registering for the meeting and providing public comment can be obtained at http://www.hhs.gov/paccarb on the Upcoming Meetings page.

DATES: The meeting is scheduled to be held on May 21-22, 2024, from 9 a.m. to 4 p.m. ET (times are tentative and subject to change). The confirmed times and agenda items for the meeting will be posted on the website for the PACCARB at http://www.hhs.gov/paccarb when this information becomes available. Pre-registration for attending the meeting is strongly suggested and should be completed no later than May 16, 2024.

ADDRESSES: The meeting will be held in-person at the Westin Tyson's Corner, 7801 Leesburg Pike, Falls Church, VA, 22043. The meeting will also be live streamed and can be accessed through a live webcast on the day of the meeting. Additional instructions regarding attending this meeting virtually will be posted at least one week prior to the meeting at: https://www.hhs.gov/paccarb.

FOR FURTHER INFORMATION CONTACT: Jomana Musmar, M.S., Ph.D., Designated Federal Officer, Presidential Advisory Council on Combating Antibiotic-Resistant Bacteria, Office of the Assistant Secretary for Health, U.S. Department of Health and Human Services, 1101 Wootton Parkway, Rockville, MD 20852. Phone: 202-746-1512; Email: CARB@hhs.gov.

SUPPLEMENTARY INFORMATION: The Presidential Advisory Council on Combating Antibiotic-Resistant Bacteria (PACCARB), established by Executive Order 13676, is continued by Section 505 of Public Law 116-22, the Pandemic and All-Hazards Preparedness and Advancing Innovation Act of 2019 (PAHPAIA). Activities and duties of the PACCARB are governed by the provisions of the Federal Advisory Committee Act (FACA), Public Law 92-463, as amended (5 U.S.C. App.), which sets forth standards for the formation and use of federal advisory committees.

The PACCARB shall advise and provide information and recommendations to the Secretary of Health and Human Services (Secretary) regarding programs and policies intended to reduce or combat antibiotic-resistant bacteria that may present a public health threat and improve capabilities to prevent, diagnose, mitigate, or treat such resistance. The PACCARB shall function solely for advisory purposes.

Such advice, information, and recommendations may be related to improving: the effectiveness of antibiotics; research and advanced research on, and the development of, improved and innovative methods for combating or reducing antibiotic resistance, including new treatments, rapid point-of-care diagnostics, alternatives to antibiotics, including alternatives to animal antibiotics, and antimicrobial stewardship activities; surveillance of antibiotic-resistant bacterial infections, including publicly available and up-to-date information on resistance to antibiotics; education for health care providers and the public with respect to up-to-date information on antibiotic resistance and ways to reduce or combat such resistance to antibiotics related to humans and animals; methods to prevent or reduce the transmission of antibiotic-resistant bacterial infections; including stewardship programs; and coordination with respect to international efforts in order to inform and advance the United States capabilities to combat antibiotic resistance.

The focus of the May 21-22, 2024, meeting will be to deliberate and vote on the Global Antimicrobial Resistance Working Group report to the Secretary of Health and Human Services. The remainder of the public meeting will include updates on AMR in conflict zones, the environment, and the voice of the patient. The meeting agenda will be posted on the PACCARB website at http://www.hhs.gov/paccarb when it has been finalized. All agenda items are tentative and subject to change. Instructions regarding attending the meeting virtually will be posted at least one week prior to the meeting at: http://www.hhs.gov/paccarb. Members of the public will have the opportunity to provide comments during the May meeting by pre-registering online at https://www.hhs.gov/paccarb; pre-registration is required for participation in this session with limited spots available. Written public comments can also be emailed to CARB@hhs.gov by midnight May 14, 2024, and should be limited to no more than one page. All public comments received prior to May 14, 2024, will be provided to the PACCARB members. Additionally, companies or organizations working to combat antimicrobial resistance my share their innovation during the May meeting by pre-registering to speak during the meeting's Innovation Spotlight. Pre-registration online at http://www.hhs.gov/paccarb is required for participation in this session, and limited spots are available.

Dated: March 14, 2024.
Jomana F. Musmar,
Designated Federal Officer, Presidential Advisory Council on Combating Antibiotic-Resistant Bacteria, Office of the Assistant Secretary for Health.

[FR Doc. 2024-06157 Filed 3-22-24; 8:45 am]

BILLING CODE 4150-44-P